LIBRARY OF CONGRESS

Copyright Royalty Board

37 CFR Part 351

[Docket No. 21-CRB-0007-RM]

Copyright Royalty Board Regulations Regarding the Conduct of Proceedings

AGENCY: Copyright Royalty Board, Library of Congress.

ACTION: Proposed rule.

SUMMARY: The Copyright Royalty Judges propose to amend a regulation to clarify that their hearings may be conducted in person at the Library of Congress or an alternative location, or virtually, at the Judges' discretion. The Judges solicit comments on the proposed amendment.

DATES: Comments are due no later than March 29, 2021.

ADDRESSES: You may send comments, identified by docket number 21-CRB-0007-RM, online through eCRB at https://app.crb.gov.

Instructions: All submissions received must include the Copyright Royalty Board name and the docket number for this proposed rule. All comments received will be posted without change to eCRB at https://app.crb.gov, including any personal information provided.

Docket: For access to the docket to read background documents or comments received, go to eCRB at https://app.crb.gov and perform a case search for docket 21-CRB-0007-RM.

FOR FURTHER INFORMATION CONTACT: Anita Blaine, CRB Program Specialist, at 202-707-7658 or crb@loc.gov.

SUPPLEMENTARY INFORMATION: Copyright Royalty Board (CRB) Rule 351.9 addresses the procedures the Copyright Royalty Judges (Judges) follow in conducting hearings. 37 CFR 351.9. Although the rule does not currently specify the location for such hearings, historically they have been conducted in person at facilities within the Library of Congress in Washington, DC. During the COVID-19 pandemic, however, the Library of Congress's facilities have been closed to the public, which has required the Judges to conduct proceedings virtually. It is uncertain when the Library's facilities will again be available for public hearings. Therefore, the Judges believe that it is appropriate to codify the fact that future hearings may be conducted physically, either at the Library of Congress or an alternative location, or virtually, at the Judges' discretion, which this proposed rule would accomplish. The Judges seek comments on all aspects of the proposed rule.

For the reasons stated in the preamble, the Judges propose to amend 37 CFR part 351 as set forth below:

List of Subjects in 37 CFR Part 351

Administrative practice and procedure, Copyright.

For the reasons set forth in the preamble, the Copyright Royalty Judges propose to amend part 351 of title 37 of the Code of Federal Regulations as follows:

PART 351—PROCEEDINGS

1. The authority citation for part 351 continues to read:

Authority: 17 U.S.C. 803.

2. Revise § 351.9(a) to read as follows:

§ 351.9 Conduct of hearings.

(a)(1) By panels. Subject to paragraph (b) of this section, hearings will be conducted by Copyright Royalty Judges sitting en banc.

(2) Location. Hearings will be conducted in person at the Library of Congress or an alternative location, or virtually, at the Judges' discretion.

* * * * *

Dated: February 9, 2021.
Jesse M. Feder,
Chief Copyright Royalty Judge.

[FR Doc. 2021-02946 Filed 2-25-21; 8:45 am]

BILLING CODE 1410-72-P